DEPARTMENT OF ENERGY

Federal Energy Regulatory Commission

Notice of Amendment of Licenses and Soliciting Comments, Motions To Intervene, and Protests

October 27, 2000.

Take notice that the following application has been filed with the Commission and is available for public inspection:

a. Application Type: Amendment of Licenses.

b. Project Nos: 4204-022, 4659-024, and 4660-026.

c. Date Filed: September 29, 2000.

d. Applicants: City of Batesville, Arkansas and Independence County, Arkansas.

e. Name and Location of Projects: The White River Lock and Dam Nos. 1, 2, and 3 Hydroelectric Projects, FERC Project Nos. 4204, 4660, and 4659, respectively, are to be located at existing lock and dam projects of the same name on the White River in Independence County, Arkansas. The projects do not occupy federal or tribal lands.

f. Filed Pursuant to: Federal Power Act, 16 U.S.C. 791(a)-825(r) and Section 4.202(a) of the Commission's regulations.

g. Applicant Contact: Mr. Donald H. Clarke, Wilkinson Barker Knauer, LLP, Suite 700, 2300 N Street, NW., Washington, DC 20037, (202) 783-4141.

h. FERC Contact: Any questions on this notice should be addressed to James Hunter at (202) 219-2839.

i. Deadline for filing comments and or motions: December 6, 2000.

All documents (original and eight copies) should be filed with: David P. Boergers, Secretary, Federal Energy Regulatory Commission, 888 First Street, NE., Washington, DC 20426. Beginning November 1, 2000, comments and protests may be filed electronically via the internet in lieu of paper. See, 18 CFR 385.2001(a)(1)(iii) and the instructions on the Commission's web site at http://www.ferc.fed.us/efi/doorbell.htm.

Please include the noted project numbers on any comments or motions filed.

j. Description of Proposal: The Applicants request that the current 40-year terms of these licenses be extended ten years, stating that after several Congressionally authorized extensions of time to start construction, inadequate time remains in the current license terms to amortize the investment in the projects.

k. Locations of the application: A copy of the application is available for inspection and reproduction at the Commission's Public Reference Room, located at 888 First Street, NE., Room 2A, Washington, DC 20426, or by calling (202) 208-1371. The application may be viewed on the web at www.ferc.fed.us/online/rims.htm (Call (202) 208-2222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of Rule of Practice and Procedure, 18 CFR 385.210, .211, .214. In determining the appropriate action to take, the Commission will consider all protests or other comments filed, but only those who file a motion to intervene in accordance with the Commission's Rules may become a party to the proceeding. Any comments, protest, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-28130 Filed 11-1-00; 8:45 am]

BILLING CODE 6717-01-M